DEPARTMENT OF LABOR

Employment and Training Administration

[TA-W-38,599]

Sherwood, Harsco Corporation, Lockport, NY; Notice of Negative Determination Regarding Application for Reconsideration

By application dated May 21, 2001, the petitioner requested administrative reconsideration of the Department's negative determination regarding eligibility to apply for Trade Adjustment Assistance (TAA), applicable to workers and former workers of the subject firm. The denial notice was signed on April 23, 2001, and published in the Federal Register on May 9, 2001 (66 FR 23733).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The denial of TAA for the workers of Sherwood, Harsco Corporation, Lockport, New York, was based on the finding that criterion (3) of the worker group eligibility requirements of Section 222 of the Trade Act of 1974, as amended, was not met. A survey of customers indicated that increased imports did not contribute importantly to worker separations.

The request for reconsideration claims that the Department of Labor was supplied wrong information for the Lockport and Wheatfield, New York plants and that the knowledgeable source should be contacted for the correct information.

The specified company official was contacted and indicated that the subject workers also produced component parts for the LPG valves/industrial valves produced at the subject plant. The contact indicated that the company did not import LPG valves/industrial valves nor did the company import component parts used for the assembly of the valves produced at the subject plant. The contact further revealed that their competitors were importing valve parts and using those parts for the assembly of valves domestically.

Conclusion

After review of the application and investigative findings, I conclude that there has been no error or misinterpretation of the law or of the facts which would justify reconsideration of the Department of Labor's prior decision. Accordingly, the applied is denied.

Signed at Washington, DC, this 28th day of September, 2001.
Edward A. Tomchick,
Director, Division of Trade Adjustment Assistance.

[FR Doc. 01-26360 Filed 10-18-01; 8:45 am]

BILLING CODE 4510-30-M